DEPARTMENT OF EDUCATION

[Docket No. ED-2021-SCC-0165]

Agency Information Collection Activities; Submission to the Office of Management and Budget for Review and Approval; Comment Request; Magnet Schools Assistance Program Application for Grants

AGENCY: Office of Innovation and Improvement (OII), Department of Education (ED).

ACTION: Notice.

SUMMARY: In accordance with the Paperwork Reduction Act of 1995, ED is proposing a revision of a currently approved collection.

DATES: Interested persons are invited to submit comments on or before January 10, 2022.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Gillian Cohen-Boyer, 202-401-1259.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Magnet Schools Assistance Program Application for Grants.

OMB Control Number: 1855-0011.

Type of Review: A revision of a currently approved collection.

Respondents/Affected Public: State, Local, and Tribal Governments.

Total Estimated Number of Annual Responses: 125.

Total Estimated Number of Annual Burden Hours: 5,062.

Abstract: The purpose of the Magnet Schools Assistance program, as outlined in the Every Student Succeeds Act (ESSA), Title IV, part D, Section 4401 is to assist eligible local educational agencies (LEAs) to establish and operate magnet schools under court-ordered or federally approved voluntary desegregation plans. Specifically, the program's purpose is to assist in the desegregation of public schools by supporting the elimination, reduction, and prevention of minority group isolation in elementary and secondary schools with substantial numbers of minority group students. Funded projects include the development and implementation of magnet schools that assist LEAs to create more diverse learning environments, as well as to achieve systemic reforms and provide opportunities for all students to meet challenging academic content and student academic achievement standards. MSAP projects support the development and design of innovative education methods and practices in new or existing magnet schools that will promote diversity and increase choices in public education programs. Finally, the program is intended to support the LEA's capacity development to continue the operation of the magnet schools at a high performance level after funding ends.

The U.S. Department of Education is requesting to revise a collection with one new form to make awards under the Magnet Schools Assistance Program (MSAP) using the approved application for grants (OMB Control Number 1855-0011). This collection is being submitted under the Streamlined Clearance Process for Discretionary Grant Information Collections (1894-0001). Therefore, the 30-day public comment period notice will be the only public comment notice published for this information collection.

Dated: December 6, 2021.
Kate Mullan,
PRA Coordinator, Strategic Collections and Clearance, Governance and Strategy Division, Office of Chief Data Officer, Office of Planning, Evaluation and Policy Development.

[FR Doc. 2021-26637 Filed 12-8-21; 8:45 am]

BILLING CODE 4000-01-P